DEPARTMENT OF TRANSPORTATION

Federal Aviation Administration

14 CFR Part 39

[Docket No. FAA-2005-22806; Directorate Identifier 2005-SW-04-AD]

RIN 2120-AA64

Airworthiness Directives; Bell Helicopter Textron Model 206B Helicopters

AGENCY: Federal Aviation Administration, DOT.

ACTION: Notice of proposed rulemaking (NPRM).

SUMMARY: This document proposes adopting a new airworthiness directive (AD) for Bell Helicopter Textron (Bell) Model 206B helicopters modified with Aeronautical Accessories, Inc. (AAI) Supplemental Type Certificate (STC) No. SH8435SW or SH8419SW with energy attenuating seat installation wire (wire). The AD would require replacing certain wire with airworthy wire. This proposal is prompted by disclosure that certain wires may not have the yield strength to allow seats to attenuate energy during an emergency landing. The actions specified by the proposed AD are intended to prevent failure of a seat to attenuate energy during an emergency landing, which could result in occupant injury.

DATES: Comments must be received on or before December 27, 2005.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from Aeronautical Accessories, Inc., P.O. Box 3689, Bristol, Tennessee 37625-3689.

You may examine the comments to this proposed AD in the AD docket on the Internet at http://dms.dot.gov.

FOR FURTHER INFORMATION CONTACT: Marc Belhumeur, Aviation Safety Engineer, FAA, Rotorcraft Directorate, Rotorcraft Certification Office, Fort Worth, Texas 76193-0170, telephone (817) 222-5177, fax (817) 222-5783.

SUPPLEMENTARY INFORMATION:

Comments Invited

We invite you to submit any written data, views, or arguments regarding this proposed AD. Send your comments to the address listed under the caption ADDRESSES. Include the docket number “FAA-2005-22806, Directorate Identifier 2005-SW-04-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78) or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

This document proposes adopting a new AD for Bell Model 206B helicopters with AAI STC No. SH8435SW or SH8419SW. The AD would require replacing wires that were manufactured or invoiced during a specified time frame. This proposal is prompted by disclosure that certain wires may not have the yield strength necessary to allow seats to attenuate energy during an emergency landing. This condition, if not corrected, could result in failure of a seat to attenuate energy during an emergency landing resulting in occupant injury.

We have reviewed AAI Alert Service Bulletin No. AA-04107, Revision B, dated April 8, 2005 (ASB), which describes procedures for determining either the manufacture date or the installation date of wires, part number (P/N) 157-13000-39, 157-13000-40, and 157-43000-61. The ASB specifies replacing these part-numbered wires based on specific manufacture or installation dates.

This unsafe condition is likely to exist or develop on other helicopters with the same supplemental type design. Therefore, the proposed AD would require within 60 days:

• Determining the manufacture or invoice date of wires, P/N 157-13000-39, 157-13000-40, and 157-43000-61.

• Replacing wire, P/N 157-13000-39 and 157-13000-40, with airworthy wire if the manufacture date is within the range of dates from September 1, 2001, through September 30, 2004, inclusive, or if the manufacture date cannot be determined and the AAI invoice is not dated before September 1, 2001.

• Replacing wire, P/N 157-43000-61, with airworthy wire if the manufacture date is within the range of dates from September 1, 2002, through September 30, 2004, inclusive, or if the manufacture date cannot be determined and the AAI invoice is not dated before September 1, 2002. The actions would be required to be accomplished by following the specified portions of the ASB described previously.

We estimate that this proposed AD would affect 200 helicopters of U.S. registry, and would take about 2 work hours per helicopter to determine the manufacture and invoice date of the wires and to replace the wires at an average labor rate of $65 per work hour. The manufacturer states in its ASB that they will provide the wire. Based on these figures, the total cost impact of the proposed AD on U.S. operators would be $26,000, assuming the manufacturer provides the wiring at no cost.

Regulatory Findings

We have determined that this proposed AD would not have federalism implications under Executive Order 13132. Additionally, this proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron: Docket No. FAA-2005-22806; Directorate Identifier 2005-SW-04-AD.

Applicability: Model 206B helicopters modified with Aeronautical Accessories, Inc. (AAI) Supplemental Type Certificate (STC) No. SH8435SW or SH8419SW, with energy attenuating seat installation wire (wire), part number (P/N) 157-13000-39, 157-13000-40, or 157-43000-61, installed, certificated in any category.

Compliance: Required as indicated, unless accomplished previously.

To prevent failure of a seat to attenuate energy during an emergency landing resulting in occupant injury, accomplish the following:

(a) Within 60 days, determine the manufacture date or invoice date of the wire.

(1) Before further flight, replace wire, P/N 157-13000-39 and 157-13000-40, with airworthy wire if the manufacture date is within the range of dates from September 1, 2001 through September 30, 2004, inclusive, or if the manufacture date cannot be determined and the AAI invoice is not dated before September 1, 2001. To replace the wire, follow the Accomplishment Instructions, section I, paragraphs 1 through 11, of Aeronautical Accessories, Inc. Alert Service Bulletin ASB No. AA-04107, Revision B, dated April 8, 2005 (ASB).

(2) Before further flight, replace wire, P/N 157-43000-61, with airworthy wire if the manufacture date is within the range of dates from September 1, 2002, through September 30, 2004, inclusive, or if the manufacture date cannot be determined and the AAI invoice is not dated before September 1, 2002. To replace the wire, follow the Accomplishment Instructions, section I, paragraphs 1 through 11, of the ASB.

(b) To request a different method of compliance or a different compliance time for this AD, follow the procedures in 14 CFR 39.19. Contact the Rotorcraft Certification Office, FAA, for information about previously approved alternative methods of compliance.

Issued in Fort Worth, Texas, on October 21, 2005.
David A. Downey,
Manager, Rotorcraft Directorate, Aircraft Certification Service.

[FR Doc. 05-21541 Filed 10-27-05; 8:45 am]

BILLING CODE 4910-13-P